DEPARTMENT OF DEFENSE

Technical Assistance Relating to Machine Tools

AGENCY: Department of Defense (DoD).

ACTION: Notice.

SUMMARY: This notice implements that portion of Section 823 of the Fiscal Year 2004 National Defense Authorization Act that requires the Secretary of Defense to publish information on resources available to assist machine tool companies and users of machine tools in understanding Government contracting procedures and in locating opportunities for contracting with DoD.

FOR FURTHER INFORMATION CONTACT: Susan L. Schneider, Procurement Analyst, Defense Procurement and Acquisition Policy, OUSD(AT&L), 3060 Defense Pentagon, Washington, DC 20301-3060, (703) 614-4840; or e-mail to Susan.Schneider@osd.mil.

SUPPLEMENTARY INFORMATION: This notice contains information required under Section 823 of the National Defense Authorization Act for Fiscal Year 2004 (Pub. L. 108-136) to assist machine tool companies and users of machine tools in Government contracting. It identifies several important resources that are available to assist prospective contractors in understanding Government contracting procedures and in locating opportunities for contracting with DoD.

The DoD Procurement Technical Assistance (PTA) Cooperative Agreement Program was established by Congress in 1985 to provide DoD assistance to eligible entities in obtaining and performing under DoD contracts. Due to its initial success, it was later expanded to include all Federal agencies, as well as State and local governments. The Defense Logistics Agency, Director of Small and Disadvantaged Business Utilization, is responsible for management of the PTA program. The PTA program manager has advised PTA program participants of DoD's emphasis on the need to be responsive to machine tool companies and users of machine tools in Government contracting by providing assistance and counseling consistent with the requirements of Section 823 as outlined below.

Under this program, PTA centers provide day-to-day assistance to firms seeking to do business with Federal agencies and State and local governments in the form of such services as helping to prepare bids and proposals, marketing to potential buyers, establishing electronic commerce capability, setting up or improving quality assurance and accounting systems, and resolving payment problems. This specialized and professional assistance may consist of, but is not limited to, outreach and counseling services. Participants in this program make a concerted effort to seek out and assist small businesses, small disadvantaged businesses, women-owned small businesses, historically underutilized business zone small businesses, historically Black colleges and universities and minority institutions, and veteran-owned small businesses (including service-disabled veteran-owned small businesses. A listing of the current PTA centers can be viewed at http://www.dla.mil/pta.

In addition, there are three other sources of information that provide assistance to prospective contractors in finding DoD contracting opportunities. The “Guide to DoD Contracting Opportunities” is a publication that provides a step-by-step approach to business dealings with DoD. It is located at http://www.acq.osd.mil/sadbu/Doing_Business/index.htm and provides marketing ideas and helpful advice for registering your company. Also, FedBizOpps is a single Governmentwide point of entry for Federal procurement opportunities. Government buyers are able to publicize their business opportunities by posting information directly to FedBizOpps via the Internet, and commercial vendors seeking jobs can search, monitor, and retrieve opportunities solicited by the entire Federal contracting community. Additional information on FedBizOpps can be found at http://www.fedbizopps.gov. This is also a useful site to identify subcontracting opportunities, since contract awards to prime contractors are also published at FedBizOpps.

The Federal Acquisition Regulation (FAR) and the Defense FAR Supplement (DFARS) are the regulations that govern DoD contracting. The FAR and the DFARS work in tandem. They prescribe contractor responsibilities and employment practices that apply to all contractors, large and small. The Defense Acquisition Regulations Directorate maintains electronic copies of these regulations, and they are readily accessible to the public at http://www.acq.osd.mil/dpap/dars/index.htm.

Michele P. Peterson,
Executive Editor, Defense Acquisition Regulations Council.

[FR Doc. 04-11425 Filed 5-19-04; 8:45 am]

BILLING CODE 5201-08-P